DEPARTMENT OF TRANSPORTATION

Office of the Secretary

Reports, Forms and Recordkeeping Requirements; Proposed Agency Information Collection Activity Under OMB Review

AGENCY: Office of the Secretary, DOT.

ACTION: Notice.

SUMMARY: This collection (2105-0517) is submitted to the Federal Register. In compliance with the Paperwork Reduction Act of 1995 (44 U.S.C. 3501 et seq.), this notice announces one information collection request coming up for renewal. Before submitting the renewal package to the Office of Management and Budget (OMB), the Department of Transportation is soliciting comments on specific aspects of the collection as described below. The ICR describes the nature of the information collection and its expected cost and burden. Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

All responses to this notice will be summarized and included in the request for OMB approval.

DATES: Comments must be submitted on or before April 3, 2000.

ADDRESSES: Submit written comments identified by the OMB Control Number 2105-0517, by email to charlotte.hackley@ost.dot.gov or by mail to: Charlotte Hackley, M-61, U.S. Department of Transportation, 400 Seventh Street SW., Room 7101, Washington, DC 20590.

FOR FURTHER INFORMATION CONTACT: Charlotte Hackley, (202) 366-4267, and refer to OMB Control Number, 2105-0517.

SUPPLEMENTARY INFORMATION:

Office of the Secretary (OST)

Title: Extension of information collection authority under Transportation Acquisition Regulation (TAR).

Form(s): DOT F 4220.4, DOT F 4220.7, DOT F 4220.43, DOT F 4220.45, DOT F 4220.46, and Form DD 882.

OMB Control Number: 2105-0517.

Affected Public: Individuals or households and businesses or other for-profit organizations.

Abstract: The requested extension of the approved control number covers the information and collection requirements contained in (TAR) 48 CFR Chapter 12 including forms F 4220.4, DOT F 4220.7, DOT F 4220.43, DOT F 4220.45, DOT F 4220.46, and Form DD 882.

Annual Estimated Burden: The annual estimated burden is 30,885 hours.

Issued in Washington, DC, on January 27, 2000.
David J. Litman,
Senior Procurement Executive.

[FR Doc. 00-2407 Filed 2-2-00; 8:45 am]

BILLING CODE 4910-62-P